DEPARTMENT OF AGRICULTURE

Farm Service Agency

[Docket ID FSA-2021-0016]

Information Collection Request; Market Facilitation Program (MFP) Payments to Producers

AGENCY: Commodity Credit Corporation and Farm Service Agency, USDA.

ACTION: Notice; request for comments.

SUMMARY: In accordance with the Paperwork Reduction Act, Farm Service Agency (FSA) is requesting comments from interested individuals and organizations on an extension of a currently approved information collection request associated with Market Facilitation Program (MFP). FSA, on the behalf of the Commodity Credit Corporation, is making payments to domestic crop and commodity producers. FSA is authorized to assist in the disposition of surplus commodities and to increase the domestic consumption of agricultural commodities by expanding or aiding in the expansion of domestic markets or by developing or aiding in the development of new and additional markets, marketing facilities, and uses for such commodities.

DATES: We will consider comments that we receive by February 8, 2022.

ADDRESSES: We invite you to submit comments on this notice. You may submit comments by any of the following methods:

• Federal eRulemaking Portal: Go to: www.regulations.gov and search for Docket ID FSA-2021-0016. Follow the online instructions for submitting comments.

• Mail, Hand-Delivery, or Courier: Director, Safety Net Division, FSA, USDA, 1400 Independence Avenue SW, Stop 0510, Washington, DC 20250-0522.

You may also send comments to the Desk Officer for Agriculture, Office of Information and Regulatory Affairs, Office of Management and Budget, Washington, DC 20503. Copies of the information collection may be requested by contacting Kelly Hereth.

FOR FURTHER INFORMATION CONTACT: For specific questions related to collection activity, contact Kelly Hereth; telephone: (202) 720-0448; or email: kelly.hereth@usda.gov. Persons with disabilities who require alternative means for communication should contact the USDA Target Center at (202) 720-2600 or (844) 433-2774 (toll-free nationwide).

SUPPLEMENTARY INFORMATION: Title: Market Facilitation Program (MFP) Payments to Producers.

OMB Control Number: 0560-0292.

OMB Expiration Date: 04/30/2022.

Type of Request: Extension.

Abstract: FSA, on the behalf of the Commodity Credit Corporation, is managing the MFP information collection activities, as specified in the 7 CFR part 1409, to provide eligible producers payments with respect to commodities that have been significantly impacted by actions of foreign governments resulting in the loss of traditional exports. The information collection is necessary to evaluate the application and other required paperwork for determining the producer's eligibilities and assist in producer's payment calculations. The information collection is being extended to continue the OMB approval for any additional information that may be needed until their payment process is fully completed.

For the following estimated total annual burden on respondents, the formula used to calculate the total burden hour is the estimated average time per response multiplied by the estimated total annual responses.

Public reporting burden for this information collection is estimated 0.745 hours to include the time for reviewing instructions, searching existing data sources, gathering, and maintaining data needed and completing and reviewing the collections of information.

Type of Respondents: Producers or farmers.

Estimated Annual Number of Respondents: 898,600.

Estimated Number of Reponses per Respondent: 1.

Estimated Total Annual Responses: 898,600.

Estimated Average Time per Response: 0.745 hours.

Estimated Total Annual Burden on Respondents: 669,850.

FSA is requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility, and clarity of the information to be collected;

(4) Minimize the burden of the collection of information on those who are to respond, including using appropriate automated, electronic, mechanical, or other technological collection techniques or other forms of information technology.

All comments received in response to this notice, including names and addresses when provided, will be a matter of public record. Comments will be summarized and included in the submission for Office of Management and Budget approval.

Zach Ducheneaux,
Administrator, Farm Service Agency.

[FR Doc. 2021-26708 Filed 12-9-21; 8:45 am]

BILLING CODE 3410-05-P